DEPARTMENT OF AGRICULTURE

Office of the Secretary

Roadless Area Conservation National Advisory Committee

AGENCY: Office of the Secretary, USDA.

ACTION: Notice; establishment and request for nominations.

SUMMARY: The Secretary of Agriculture is establishing a Roadless Area Conservation National Advisory Committee, under the Federal Advisory Committee Act, to provide advice and recommendations on the implementation of the State Petitions for Inventoried Roadless Area Management final rule set out at 36 CFR part 294, subpart B, published elsewhere in this part of today's Federal Register. Nominations of persons to serve on this committee are invited.

DATES: Nomination packages should include a signed and dated copy of the AD-755 form (Advisory Committee Membership Background Information) that may be obtained at the World Wide Web/internet site http://www.ocio.usda.gov/forms/ocio_forms.html. Nominations for membership on the Roadless Area Conservation National Advisory Committee must be received in writing by June 27, 2005.

ADDRESSES: Nominations for membership on the Roadless Area Conservation National Advisory Committee may be sent via telefax to the Director, Ecosystem Management Coordination at (202) 205-1012, or via mail to the Director, Ecosystem Management Coordination, USDA Forest Service, 1400 Independence Ave., SW., Mail Stop 1104, Washington, DC 20250-1104.

FOR FURTHER INFORMATION CONTACT: Dave Barone, Planning Specialist, Ecosystem Management Coordination Staff, Forest Service, USDA, (202) 205-1019.

SUPPLEMENTARY INFORMATION: Pursuant to the Federal Advisory Committee Act (5 U.S.C. App. II), notice is hereby given that the Secretary of Agriculture intends to establish a Roadless Area Conservation National Advisory Committee. The Secretary has determined the work of this committee is in the public interest and relevant to the duties of the Department of Agriculture. The purpose of this committee is to provide advice and recommendations to the Secretary of Agriculture on the implementation of the State Petitions for Inventoried Roadless Area Management final rule set out at 36 CFR part 294, subpart B. This rule establishes administrative procedures to allow a Governor to petition the Secretary to undertake future rulemaking for the management of inventoried roadless areas within a specific State.

Petitions have to be submitted within 18 months of the effective date of the final rule set out at 36 CFR part 294, subpart B. The Secretary will respond to each petition within 180 days of receipt of a completed petition. The Roadless Area Conservation National Advisory Committee shall review each petition submitted to the Secretary in light of the requirements of the rule, and provide advice and recommendations to the Secretary within 90 days of receipt of a completed petition. The Advisory Committee will also provide advice and recommendations to the Secretary on any subsequent State-specific rulemakings.

The Roadless Area Conservation National Advisory Committee shall consist of 12 members appointed by the Secretary of Agriculture. Officers or employees of the Forest Service may not serve as members of the Committee. The Advisory Committee chair shall be elected by the members. The Committee shall be composed of a balanced group of representatives of diverse national organizations who can provide insights into the major contemporary issues associated with the conservation and management of inventoried roadless areas. Members of the Advisory Committee will operate in a manner designed to establish a consensus of opinion in order to develop recommendations that reflect relevant needs and perspectives. Members of the Committee will seek to reach mutual agreement on a course of action on issues. Collectively, the members should represent a diversity of organizations and perspectives. They will work together to draft recommendations that are representative of the diverse values and interests represented on the Committee. Nominations to the Committee should describe and document the proposed member's qualifications for membership.

Appointments to the Committee will be made by the Secretary of Agriculture. Equal opportunity practices will be followed in all appointments to the Roadless Area Conservation National Advisory Committee. To ensure the recommendations of the Committee have taken into account the needs of the diverse groups served by the Department, membership will include, to the extent practicable, individuals with demonstrated ability to represent minorities, women, and persons with disabilities.

Dated: April 15, 2005.
Michael J. Harrison,
Assistant Secretary for Administration.

[FR Doc. 05-9348 Filed 5-12-05; 8:45 am]

BILLING CODE 3410-11-P